DEPARTMENT OF THE INTERIOR

Bureau of Land Management

[UT-933-01-1220-00]

Notice of Implementation of Special Area Permit Fees in Utah

AGENCY: Bureau of Land Management, Utah State Office, Salt Lake City, Utah.

ACTION: Notice of implementation of special area permit fees on public lands administered by the Bureau of Land Management in Utah.

SUMMARY: Notice is hereby given that day use and overnight special area permit fees are being charged for all individual (private, non-commercial) users and for guests of commercial users at the areas listed below. Failure to pay fees may result in a fine of up to $100 added to the initial fee amount.

Paria Canyon-Vermillion Cliffs Wilderness Area: $5 per person/per day, $5 per dog/per day

Westwater Canyon—$7 per person/per trip

Desolation Canyon—$18 per person/per trip

San Juan River—Sand Island to Mexican Hat—$6 per person/per trip; Mexican Hat to Clay Hills—$12 per person/per trip; Sand Island to Clay Hills—$18 per person/per trip

Cedar Mesa—Overnight permit $8 per person/per trip, 7 day pass (day use) $5 per person, Single day (day use) pass $2/per person, Seasonal day use pass $20 per person

The implementation of special area permit fees is effective immediately for the areas listed as required on a year-round or seasonal basis under the above listed permit systems.

SUPPLEMENTARY INFORMATION: Commercial guides are exempt from paying the special area permit fees only when they are on official duty with their respective companies. Golden Eagle, Age, and Access Passports apply only to entrance fees and cannot be used to cover user fees such as those imposed by this notice. Failure to pay fees will result in a fine of up to $100. Non-compliance with registration requirements and/or other user regulations at the sites may result in fines up to $1,000 and/or imprisonment up to 12 months and possibly, additional civil action.

Additional Information

The purpose of this action is for Utah BLM to implement national policy set forth under title 43 CFR, Subpart 8372. Special area use permits may be required for individual (private, noncommercial) recreation use in special areas. Special areas are areas officially designated by statute or Secretarial order including: components of the National Trails System, the National Wild and Scenic Rivers System, the National Wilderness System; National Conservation Areas, Monuments and recreation areas; an area covered by joint agreement between the Bureau of Land Management and a State government as provided for in Title II of the Sikes Act (16 U.S.C. 670a et seq.); or any area where the authorized officer determines that the resources require special management and control measures for their protection and a permit system for individual use would achieve management objectives.

The areas listed above are also participating in the Recreation Fee Demonstration Program. In 1996, to address increasing visitor use and impact on public lands and declining federal budgets for recreation, Congress directed the U.S. Department of the Interior to implement the Recreation Fee Demonstration Program for three of its agencies, the BLM, the National Park Service, and the U.S. Fish and Wildlife Service. The intent of the program is to help spread some of the costs for managing these lands among those who use them. All of the fees collected at these sites are returned to the site for use in managing the area.

Authorities: The Omnibus Consolidated Rescissions and Appropriation Act of 1996 (Pub. L. 104-134, Sec. 315) provides the authority for BLM to carry out the Recreational Fee Demonstration Program by charging and collecting fees in Pilot Fee Sites. Under this authority, the agency has the authority to collect fees for admission to the area or for the use of outdoor recreation sites, facilities, visitor centers, equipment, and services.'' Additional authorities for collecting user fees, implementing special regulations for visitor conduct, and imposing fines for noncompliance with regulations include the Federal Land Policy and Management Act of 1976, Pub. L. 94-579 (43 U.S.C. 1701 et. seq.), the Land and Water Conservation Fund Act of 1965, Pub. L. 88-578 (16 U.S.C. 460 (1-6a) et seq.), and title 43 CFR, Subpart 8372.

Dated: March 14, 2001.
Linda S. Colville,
Acting State Director.

[FR Doc. 01-10459 Filed 4-26-01; 8:45 am]

BILLING CODE 4310-DQ-M